AGENCY FOR INTERNATIONAL DEVELOPMENT

Notice of May 15 President's Global Development Council Meeting

AGENCY: United States Agency for International Development.

ACTION: Notice of meeting.

SUMMARY: Pursuant to the Federal Advisory Committee Act, notice is hereby given of a meeting of the President's Global Development Council (GDC). The purpose of the meeting is to solicit public input on key global development issues.

Date: Friday, May 15, 2015.

Time: 10:00 a.m.-12:00 p.m.

Location: U.S. Agency for International Development, The Ronald Reagan Building—Pavilion Room, 1300 Pennsylvania Ave. NW., Washington, DC 20004. Please use at the entrance on Pennsylvania Avenue.

Agenda

I. Opening Remarks

II. Update on the work of the GDC

III. Group Discussion and Q&A

IV. Overview of GDC Next Steps

V. Feedback and Input

VI. Closing Comments

Stakeholders

The meeting is free and open to the public. Persons wishing to attend should RSVP to Interest_GDC@who.eop.gov. Please note that capacity is limited. Additional information on web streaming will be forthcoming on www.whitehouse.gov.

FOR FURTHER INFORMATION CONTACT: Jayne Thomisee, 202-712-5506.

Date: April 21, 2015.
Jayne Thomisee,
Executive Director & Policy Advisor.

[FR Doc. 2015-09803 Filed 4-27-15; 8:45 am]

BILLING CODE P